DEPARTMENT OF COMMERCE

International Trade Administration

University of Pittsburgh of the Commonwealth System of Higher Education, et al.: Notice of Decision on Application for Duty-Free Entry of Scientific Instruments

This is a decision pursuant to Section 6(c) of the Educational, Scientific, and Cultural Materials Importation Act of 1966 (Pub. L. 89-651, as amended by Pub. L. 106-36; 80 Stat. 897; 15 CFR part 301). Related records can be viewed between 8:30 a.m. and 5:00 p.m. in Room 3720, U.S. Department of Commerce, 14th and Constitution Ave. NW, Washington, DC.

Docket Number: 17-017. Applicant: University of Pittsburgh of the Commonwealth System of Higher Education, Pittsburgh, PA 15260. Instrument: Photonic Professional GT System. Manufacturer: Nano scribe, Germany. Intended Use: See notice at 83 FR 31120, July 3, 2018. Comments: None received. Decision: Approved. We know of no instruments of equivalent scientific value to the foreign instruments described below, for such purposes as this is intended to be used, that was being manufactured in the United States at the time of order. Reasons: The instrument will be used to support the fabrication of devices comprised primarily of both commercially available and in house developed UV curable polymers. Biomaterials and other biopolymers that have been specifically designed to be cured using a radical polymerization process will also be investigated in this device. Any polymer or biomaterial that can be ablated using the wavelength and power available in the Nano scribe system will also be used for subtractive manufacturing.

Docket Number: 18-001. Applicant: William March Rice University, Houston, TX 77005. Instrument: 3D-Discovery Bioprinter and Direct Write Electro spinner. Manufacturer: regnum, Switzerland. Intended Use: See notice at 83 FR 31120, July 3, 2018. Comments: None received. Decision: Approved. We know of no instruments of equivalent scientific value to the foreign instruments described below, for such purposes as this is intended to be used, that was being manufactured in the United States at the time of order. Reasons: The instrument will be used for a multitude of techniques across disciplines ranging from biology to materials science, chemical engineering and bioengineering. Techniques like thermoplastic and hydrogel extrusion, 3D printing, 2-component printing, cell-bioprinting, electrospinning/direct write electrospinning, drug/factor encapsulation.

Docket Number: 18-002. Applicant: Centers for Disease Control and Prevention, Atlanta, GA 30333. Instrument: Cello Scope Optical Screening Instrument. Manufacturer: Bio Sense Solutions Apes, Denmark. Intended Use: See notice at 83 FR 31120, July 3, 2018. Comments: None received. Decision: Approved. We know of no instruments of equivalent scientific value to the foreign instruments described below, for such purposes as this is intended to be used, that was being manufactured in the United States at the time of order. Reasons: The instrument will be used for research use only to study several Gram-negative and Gram-positive bacterial pathogens. Use of this optical screening instrument, will be developing and evaluating an automated antimicrobial susceptibility test for bacterial pathogens based on time-lapse imaging of cells incubating in broth microdilution drug panels. Experiments to be conducted include growth assessment of these bacterial pathogens in the presence and absence of clinically relevant antibiotics. The antibiotics selected for our studies are those recommended by the Clinical and Laboratory Standards Institute (CLSI) for primary testing. The objectives of the investigations are to more rapidly determine antimicrobial susceptibility of bacterial pathogens. Currently, the gold-standard method for antimicrobial susceptibility testing requires 16-20 or 24-48 hours, depending on the species. The techniques required to perform these experiments include inoculation of a testing drug panel with a bacterial suspension and assessing susceptibly by optical screening. The research conducted using this instrument may substantially reduce the time required to make an informed therapeutic decision.

Docket Number: 18-003. Applicant: University of Virginia, Charlottesville, VA 22903. Instrument: Superconducting Magnet System. Manufacturer: Cryogenic Ltd., United Kingdom. Intended Use: See notice at 83 FR31120, July 3, 2018. Comments: None received. Decision: Approved. We know of no instruments of equivalent scientific value to the foreign instruments described below, for such purposes as this is intended to be used, that was being manufactured in the United States at the time of order. Reasons: The instrument will be used to study the beta decay of neutrons. Neutrons are elementary constituents of any matter in our universe. The experiments require measuring the kinetic energies of electrons and protons, two of the particles that are produced in neutron decay. The Nab spectrometer is to extract the neutrino-electron correlation coefficient “a” and the Fires term “b” which describes the dynamic properties of the decay particles; the results test our understanding of the Standard Model of Elementary Particle Physics. The Nab spectrometer, electrons and protons are guided by the magnetic field, produced by the magnet system that we are importing. Electrons and protons eventually reach detectors. The detectors allow us to determine the kinetic energies of both particles, respectively.

Docket Number: 18-004. Applicant: University of Nebraska-Lincoln, Lincoln, NE 68588-0645. Instrument: Closed Cycle Cryogen Free Cryostat. Manufacturer: Autocue Systems, Germany. Intended Use: See notice at 83 FR 31120, July 3, 2018. Comments: None received. Decision: Approved. We know of no instruments of equivalent scientific value to the foreign instruments described below, for such purposes as this is intended to be used, that was being manufactured in the United States at the time of order. Reasons: The instrument will be used to study the optoelectronic properties of novel atomically thin semiconductor materials such as metal chalcogenides, which are promising for application in energy conversion (for example solar cells) and micro-/nanoelectronics. Leading-edge fundamental research on the optoelectronic properties of novel nanomaterials, with the goal of developing advanced materials to support the needs for new energy conversion processes and next-generation electronics and computing.

Gregory W. Campbell,
Director, Subsidies Enforcement, Enforcement and Compliance.

[FR Doc. 2018-17295 Filed 8-10-18; 8:45 am]

BILLING CODE 3510-DS-P